DEPARTMENT OF LABOR

Employment and Training Administration

[TA-W-55,009]

Oregon Panel Products, LLC, Lebanon, OR; Notice of Revised Determination on Reopening

On June 2, 2004, the Department, on its own motion, reopened its investigation for the former workers of the subject firm.

The initial investigation was terminated on the basis that the petitioning group of workers was covered by an active certification issued on October 29, 2003 (TA-W-52,773), which remained in effect and had been amended to reflect what was believed to be a name change of the subject facility.

The Department obtained new information that revealed that there is no successor-in-interest status for Oregon Panel Products, LLC. Therefore, the investigation is being reopened.

In accordance with Section 223 of the Trade Act of 1974 (19 U.S.C 2273), as amended, the Department of Labor herein presents the results of its investigation regarding certification of eligibility to apply for worker adjustment assistance.

In order to make an affirmative determination and issue a certification of eligibility to apply for Trade Adjustment Assistance, the group eligibility requirements in either paragraph (a)(2)(A) or (a)(2)(B) of Section 222 of the Trade Act must be met. It is determined in this case that the requirements of (a)(2)(A) of Section 222 have been met.

The investigation was initiated on June 2, 2004 in response to a petition filed by a company official on behalf of workers of Oregon Panel Products, LLC, Lebanon, Oregon. The workers at the subject firm produced hardboard.

The findings of the investigation on reopening revealed that sales and employment at the subject firm decreased absolutely with the closure of the facility in May 2004.

The Department of Labor surveyed the subject firm's major customers regarding their purchases of hardboard. The survey revealed increases in imports of hardboard during the period under investigation.

In addition, Unites States aggregate imports of hardboard increased significantly during the period under investigation.

In accordance with Section 246 the Trade Act of 1974 (26 U.S.C 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion: After careful review of the facts obtained in the investigation, I determine that increases of imports of articles like or directly competitive with hardboard produced at Oregon Panel Products, LLC, Lebanon, Oregon contributed importantly to the total or partial separation of workers and to the decline in sales or production at that firm or subdivision. In accordance with the provisions of the Act, I make the following certification:

“All workers of Oregon Panel Products, LLC, Lebanon, Oregon who became totally or partially separated from employment on or after October 27, 2003 through two years from the date of certification are eligible to apply for adjustment assistance under Section 223 of the Trade Act of 1974, and are also eligible to apply for alternative trade adjustment assistance under Section 246 of the Trade Act of 1974.”

Signed in Washington, DC, this 5th day of August 2004.
Richard Church,
Certifying Officer, Division of Trade Adjustment Assistance.

[FR Doc. 04-18737 Filed 8-16-04; 8:45 am]

BILLING CODE 4510-30-P